DEPARTMENT OF DEFENSE

Department of the Army, Corps of Engineers

Intent To Prepare a Draft Environmental Impact Statement (DEIS) for Millington and Vicinity, Tennessee

AGENCY: Army Corps of Engineers, Department of Defense.

ACTION: Notice of intent.

SUMMARY: The Millington, Tennessee and Vicinity Feasibility Study will be conducted to analyze problems being experienced in the Big Creek drainage basin and evaluate alternatives to provide plans for ecosystem restoration, flood damage reduction, and recreation. National Ecosystem Restoration (NER) benefits will be evaluated with respect to the net change in habitat quantity and/or quality and expressed quantitatively in physical units and indices, but not monetary units. If justified, the feasibility study and EIS will recommend a plan.

FOR FURTHER INFORMATION OR COMMENT CONTACT: Mr. Danny Ward, telephone (901) 544-0709, CEMVM-PM-E, 167 N. Main, Room B-202, Memphis, TN 38103, email—daniel.d.ward@mvm02.usace.army.mil.

SUPPLEMENTARY INFORMATION: The United States House of Representatives Committee on Transportation and Infrastructure adopted a resolution on March 7, 1996, authorizing that* * *

“The Secretary of the Army review the report of the Chief of Engineers on the Wolf River and Tributaries, Tennessee and Mississippi, published as House Document Numbered 76, Eighty-fifth Congress, and other pertinent reports, to determine whether any modifications of the recommendations contained therein are advisable at this time, with particular reference to the need for improvements for flood control, environmental restoration, water quality, and related purposes associated with storm water runoff and management in the metropolitan Memphis, Tennessee area and tributary basins including Shelby, Tipton, and Fayette Counties, Tennessee, and DeSoto and Marshall Counties, Mississippi. This area includes the Hatchie River, Loosahatchie River, Wolf River, Nonconnah Creek, Horn Lake Creek, and Coldwater River Basins. The review shall evaluate the effectiveness of existing Federal and non-Federal improvements, and determine the need for additional improvements to prevent flooding from storm water, to restore environmental resources, and to improve the quality of water entering the Mississippi River and its tributaries.”

Big Creek, a tributary of the Loosahatchie River, is located north of the City of Memphis in Shelby and Tipton Counties, Tennessee. Metropolitan areas within the watershed include the cities of Millington, Munford, and Atoka. The entire reach of Big Creek within Shelby County has been channelized and is referred to as the Big Creek Drainage Canal. Habitat in Big Creek is limited due to channel alteration, incision of the channel bottom, bank erosion, high urbanization rates, and an altered hydraulic regime. Most of the historical habitat in the watershed has been cleared for agricultural or development purposes. Additionally, water quality is a major problem in the study area. Big Creek, from its mouth to Crooked Creek, is listed on the Clean Water Act 303(d) list of impaired waterways by the Tennessee Department of Environment and Conservation (TDEC). TDEC determined that this waterway is a high priority for development of the Total Maximum Daily Load (TMDL). The identified water pollutants are organic enrichment/DO, siltation, nutrients, and pathogens. The sources of these water quality problems were identified as landfills, channelization, and agricultural and urban runoff.

Heavy rainfalls, totaling over 10 inches in November 2001, caused temporary road closures in the Big Creek drainage basin and a 21-foot rise and fall of the creek's water surface elevation within 48 hours. Estimates indicate that the rainfall event approximated a 50-year storm. This flash flood type scenario is not uncommon to the drainage basin, yet its impact eventually affects the overall stability of the drainage system and adjoining infrastructure.

Reasonable Alternatives

There is a limited amount of flood damages that occur in the basin based upon recent economic and hydraulic data. Therefore, the feasibility study will focus on ecosystem restoration alternatives. Likely restoration features include but are not limited to constructing main channel stabilization weirs in Big Creek that will prevent further channel bed incision and lateral bank erosion and restore the bottom grade of the creek that will provide aquatic habitat, constructing stabilization weirs on tributaries, constructing bioengineered channel improvements that will likely involve lateral stone toe protection with live plantings, restoring historical meanders of Big Creek, and restoring riparian buffer strips and wildlife corridors. Additional items to be analyzed include the development of recreational features on project lands. Incidental flood damage reduction benefits will also be quantified.

The Corps Scoping Process

A NEPA Scoping Notice was disseminated on 26 January 2004 and a public scoping meeting was held on 12 February 2004. Significant issues raised from the Corps' scoping process that will be analyzed in the EIS are lack of aquatic habitat, loss of riparian zones, excessive erosion, poor water quality, increased development, wetland losses, greenways, flash flooding, cultural resources, and a lack of recreational opportunities. Comments are being used in the development of project features. However, additional comments concerning the feasibility study will be accepted.

Comments to this Notice of Intent are requested by 9 July 2007 at the above address. It is anticipated that the DEIS will be available for public review in January 2007.

Vincent D. Navarre,
Major, Corps of Engineers, Deputy District Commander.

[FR Doc. 06-5317 Filed 6-12-06; 8:45 am]

BILLING CODE 3710-KS-P